DEPARTMENT OF THE INTERIOR

Fish and Wildlife Service

[FWS-R2-ES-2014-N130; FXES11130200000C2-112-FF02ENEH00]

Endangered and Threatened Wildlife and Plants; Texas Ayenia Draft Recovery Plan; Correction

AGENCY: Fish and Wildlife Service, Interior.

ACTION: Notice of availability; request for comment; correction.

SUMMARY: On June 25, 2014, we, the U.S. Fish and Wildlife Service, announced the availability of our draft recovery plan for the Texas ayenia, which is listed as endangered under the Endangered Species Act of 1973, as amended (Act). However, we printed the incorrect Internet address for reviewers to use to download the draft recovery plan. This notice provides the correct Internet address.

DATES: To ensure consideration, we must receive any written comments on or before August 25, 2014. However, we will accept information about any species at any time.

ADDRESSES: If you wish to review the draft recovery plan, you may obtain a copy by any one of the following methods:

Internet: Access the file at www.fws.gov/southwest/es/Documents/R2ES/TexasAyenia_DraftRecoveryPlan_Final_June2014.pdf;

U.S. mail: U.S. Fish and Wildlife Service, 6300 Ocean Drive, USFWS Unit 5837, Corpus Christi, TX 78412-5837; or

Telephone: (361) 994-9005.

If you wish to comment on the draft recovery plan, you may submit your comments in writing by any one of the following methods:

• U.S. mail: Field Supervisor, at the above address;

• Hand-delivery: Texas Coastal Ecological Services Office, at the above address;

• Fax: (361) 994-8262; or

• Email: chris_best@fws.gov.

FOR FURTHER INFORMATION CONTACT: Chris Best, State Botanist, at the above address and phone number, or by email at chris_best@fws.gov.

SUPPLEMENTARY INFORMATION:

Background

On June 25, 2014, we, the U.S. Fish and Wildlife Service, published a Federal Register notice to announce the availability of our draft recovery plan for the Texas ayenia, a plant that is listed as endangered under the Act (16 U.S.C. 1531 et seq.) (79 FR 36087). We opened a comment period, which will last through August 25, 2014. However, we printed the incorrect Internet address for reviewers to use to download the draft recovery plan. This notice provides the correct Internet address, which can be found in the ADDRESSES section of this notice.

We request review and comment on this plan from local, State, and Federal agencies; Tribes; and the public. We will also accept any new information on the status of the Texas ayenia throughout its range to assist in finalizing the recovery plan.

Background

The Texas ayenia (also referred to as the Tamaulipan kidneypetal) is currently found in southern Texas and northern Mexico. The draft recovery plan includes specific recovery objectives and criteria to be met in order to enable us to remove this species from the list of endangered and threatened wildlife and plants. For more information, and areas to focus on when providing public comments, see our earlier notice (79 FR 36087).

Public Availability of Comments

Before including your address, phone number, email address, or other personal identifying information in your comment, you should be aware that your entire comment—including your personal identifying information—may be made publicly available at any time. While you can ask us in your comment to withhold your personal identifying information from public review, we cannot guarantee that we will be able to do so. Comments and materials we receive will be available, by appointment, for public inspection during normal business hours at our office (see ADDRESSES).

Authority

We developed our draft recovery plan under the authority of section 4(f) of the Act, 16 U.S.C. 1533(f). We publish this notice under section 4(f) Endangered Species Act of 1973, as amended (16 U.S.C. 1531 et seq.).

Dated: June 25, 2014.
Joy E. Nicholopoulos,
Acting Regional Director, Southwest Region, Albuquerque, New Mexico.

[FR Doc. 2014-15383 Filed 6-30-14; 8:45 am]

BILLING CODE 4310-55-P